DEPARTMENT OF TRANSPORTATION

Maritime Administration

Relocation and Decommissioning of NS Savannah

AGENCY: Maritime Administration, Department of Transportation.

ACTION: Notice and Request for Comments.

SUMMARY: The Maritime Administration (MARAD) is considering transferring the Nuclear Ship NS Savannah from its present location in the James River Reserve Fleet in Virginia to either Charleston, South Carolina; Wilmington, North Carolina; Hampton Roads, Virginia; or Baltimore, Maryland, to complete decommissioning of the ship's nuclear reactor. Prior to making this decision, MARAD requests public comments and may hold several informational public meetings and/or teleconferences on the proposal.

DATES: Comments are due by March 31, 2006.

ADDRESSES: You may submit comments by mail to: Maritime Administration, Office of Congressional and Public Affairs, 400 Seventh Street, SW., Washington, DC 20590; or by e-mail to: pao.marad@dot.gov.

FOR FURTHER INFORMATION CONTACT: Erhard Koehler, Manager, NS Savannah Programs, Maritime Administration, 400 Seventh Street, SW., Washington, DC 20590; phone: (202) 366-2631; fax: (202) 366-3954; or e-mail Erhard.Koehler@dot.gov. Information regarding the NS Savannah is also available on MARAD's Web site at http://www.marad.dot.gov.

SUPPLEMENTARY INFORMATION: The NS Savannah, the world's first nuclear-powered commercial vessel, was originally launched on July 21, 1959, and served as a demonstration of the peaceful and productive use of atomic power. It was part of the Patriots Point Naval and Maritime Museum in Mount Pleasant, SC from 1981 to 1994, and has spent the last 11 years moored at MARAD's James River Reserve Fleet in Virginia.

MARAD is considering transferring the Savannah from its present location to either Charleston, South Carolina; Wilmington, North Carolina; Hampton Roads, Virginia; or Baltimore, Maryland, to complete the decommissioning of its nuclear reactor. No nuclear fuel remains on the Savannah (as all of the fuel was removed more than 30 years ago). MARAD has a five-year plan to remove the rest of the irradiated components from the ship—the reactor pressure vessel, steam generators, pumps and piping systems. These components have been tested and found to be Class A or lower, which means they have the lowest radiation levels they can have and still be considered nuclear waste. The waste would be disposed of in a licensed facility. This collective process is defined as “decommissioning.”

The Savannah is licensed and regulated by the U.S. Nuclear Regulatory Commission (NRC)—just like any other commercial utility that operates a nuclear power station. Under NRC regulations, MARAD must move the Savannah from its present location in the James River Reserve Fleet to an East Coast port / industrial complex where the decommissioning work can be accomplished. NRC will then consider an amendment to MARAD's Savannah license to authorize the decommissioning work. This review is expected to take two years (2006-2008), and it will include a series of formal hearings chaired by the NRC in the decommissioning port.

MARAD is requesting public comments on its proposal to relocate the Savannah for decommissioning. After reviewing comments, MARAD may hold several informational public meetings (and/or teleconferences) addressing this proposal in Charleston, South Carolina; Wilmington, North Carolina; Hampton Roads, Virginia (to include Norfolk, Portsmouth, Newport News); and Baltimore, Maryland. If such meetings are determined to be necessary, specific dates and times for the meetings will be announced in the Federal Register.

(Authority 49 CFR 1.66)

Dated: February 24, 2006.
By order of the Maritime Administrator.
Joel C. Richard,
Secretary, Maritime Administration

[FR Doc. E6-2923 Filed 2-28-06; 8:45 am]

BILLING CODE 4910-81-P